MILLENNIUM CHALLENGE CORPORATION

[MCC FR 13-02]

Notice of Quarterly Report (October 1, 2012-December 31, 2012)

AGENCY: Millennium Challenge Corporation

SUMMARY: The Millennium Challenge Corporation (MCC) is reporting for the quarter October 1, 2012, through December 31, 2012, on assistance provided under section 605 of the Millennium Challenge Act of 2003 (22 U.S.C. 7701 et seq.), as amended (the Act), and on transfers or allocations of funds to other federal agencies under section 619(b) of the Act. The following report will be made available to the public by publication in the Federal Register and on the Internet Web site of the MCC (www.mcc.gov) in accordance with section 612(b) of the Act.

Dated: April 8, 2013.
Paul C. Weinberger,
Vice President, Congressional and Public Affairs, Millennium Challenge Corporation.

Projects | Obligated | Objective | Cumulative disbursements | Measures ²
Country: Burkina Faso Year: 2013 Quarter 1 Total Obligation: $478,549,649
Entity to which the assistance is provided: MCA Burkina Faso Total Quarterly Disbursements ¹: $30,291,633
Roads Project | $194,020,302 | Enhance access to markets through investments in the road network | $31,781,662 | International Roughness Index: Sabou-Koudougou-Perkoa-Didyr.
|  |  |  | International Roughness Index: Dedougou-Nouna-Bomborukuy-Nouna.
|  |  |  | International Roughness Index: Banfora-Sindou.
|  |  |  | Kilometers of road under works contract (Primary roads).
|  |  |  | Access time to the closest market via paved roads in the Sourou and Comoe (minutes).
|  |  |  | Kilometers of road under works contract (Rural roads).
|  |  |  | Personnel trained in procurement, contract management and financial systems.
|  |  |  | Periodic road maintenance coverage rate (for all funds) (percent).
Rural Land Governance Project | $59,898,386 | Increase investment in land and rural productivity through improved land tenure security and land management | $19,369,691 | Trend in incidence of conflict over land rights reported in the 17 pilot communes (annual percent rate of change in the occurrence of conflicts over land rights).
|  |  |  | Legal and regulatory reforms adopted.
|  |  |  | Stakeholders reached by public outreach efforts.
|  |  |  | Personnel trained.
|  |  |  | Rural land service offices installed and functioning (Services Fonciers Ruraux).
|  |  |  | Rural hectares formalized.
|  |  |  | Extent of confidence in land tenure security.
Agriculture Development Project | $141,910,059 | Expand the productive use of land in order to increase the volume and value of agricultural production in project zones | $54,456,782 | New irrigated perimeters developed in Di (hectares). Value of signed contracts for irrigation systems works.
|  |  |  | Water Users' Associations leaders trained in the Sourou.
|  |  |  | Farmers trained.
|  |  |  | Households that have applied improved techniques.
|  |  |  | Agro-sylvo-pastoral groups that receive technical assistance.
|  |  |  | Loans provided by the rural finance facility.
|  |  |  | Volume of loans made to end borrowers by participating financial institutions using Rural Finance Facility funds ($ million).
Bright II Schools Project | $26,840,570 | Increase primary school completion rates | $26,840,570 | Girls and boys graduating from BRIGHT II primary schools.
|  |  |  | Percent of girls regularly attending (90 percent attendance) BRIGHT II schools.
|  |  |  | Girls enrolled in the MCC/USAID-supported BRIGHT II schools.
|  |  |  | Boys enrolled in the MCC/USAID-supported BRIGHT II schools.
|  |  |  | Educational facilities constructed or rehabilitated.
|  |  |  | Teachers trained through 10 provincial workshops.
Program Administration ³ and Control, Monitoring and Evaluation | $56,138,545 |  | $34,820,809 |
Pending Subsequent Report ⁴ | $−258,211 |  |  |

Projects | Obligated | Objective | Cumulative disbursements | Measures ²
Country: El Salvador Year: 2013 Quarter 1 Total Obligation: $460,940,000
Entity to which the assistance is provided:MCA El Salvador Total Quarterly Disbursements ¹: $16,963,352
Human Development Project | $89,146,523 | Increase human and physical capital of residents of the Northern Zone to take advantage of employment and business opportunities | $84,763,901 | Non-formal trained students that complete the training. Students participating in MCC-supported education activities.
|  |  |  | Additional school female students enrolled in MCC-supported activities.
|  |  |  | Instructors trained or certified through MCC-supported activities.
|  |  |  | Educational facilities constructed/rehabilitated and/or equipped through MCC-supported activities.
|  |  |  | Households with access to improved water supply.
|  |  |  | Households with access to improved sanitation.
|  |  |  | Persons trained in hygiene and sanitary best practices.
|  |  |  | Households benefiting with a connection to the electricity network.
|  |  |  | Household benefiting with the installation of isolated solar systems.
|  |  |  | Kilometers of new electrical lines with construction contracts signed.
|  |  |  | Population benefiting from strategic infrastructure.
Connectivity Project | $269,212,588 | Reduce travel cost and time within the Northern Zone, with the rest of the country, and within the region | $267,916,157 | Average annual daily traffic on the Northern Transnational Highway. Travel time from Guatemala to Honduras through the Northern Zone (hours and minutes).
|  |  |  | Kilometers of roads completed.
Productive Development Project | $68,215,522 | Increase production and employment in the Northern Zone | $66,571,834 | Employment created. Investment in productive chains by selected beneficiaries.
|  |  |  | Hectares under production with MCC support.
|  |  |  | Beneficiaries of technical assistance and training.
|  |  |  | Amount of Investment Support Fund (FIDENORTE) approved.
|  |  |  | Value of agricultural loans to farmers/agribusiness.
|  |  |  | Value of loans guaranteed.
|  |  |  | Guarantees granted.
Program Administration ³ and Control, Monitoring and Evaluation | $34,365,368 |  | $29,982,435
Pending Subsequent Report ⁴

Projects | Obligated | Objective | Cumulative disbursements | Measures ²
Country: Ghana Year: 2013 Quarter 1 Total Obligation: $547,009,000
Entity to which the assistance is provided: MCA Ghana Total Quarterly Disbursements ¹: $−533,452
Agriculture Project | $195,650,409 | Enhance profitability of cultivation, services to agriculture and product handling in support of the expansion of commercial agriculture among groups of smallholder farms | $195,423,308 | Farmers trained in commercial agriculture. Additional hectares irrigated.
|  |  |  | Hectares under production.
|  |  |  | Kilometers of feeder road completed.
|  |  |  | Percent of contracted feeder road works disbursed.
|  |  |  | Value of loans disbursed to clients from agriculture loan fund.
|  |  |  | Portfolio-at-risk of Agriculture Loan Fund (percent).
|  |  |  | Cooling facilities installed.
|  |  |  | Percent of contracted irrigation works disbursed.
|  |  |  | Total parcels registered in the Pilot Land Registration Areas.
|  |  |  | Volume of products passing through post-harvest treatment.
Rural Development Project | $76,030,565 | Strengthen the rural institutions that provide services complementary to, and supportive of, agricultural and agriculture business development | $75,903,274 | Students enrolled in schools affected by Education Facilities Sub-Activity. Additional female students enrolled in schools affected by Education Facilities Sub-Activity.
|  |  |  | Individuals completing internships at Ministries, Departments and Agencies and Metropolitan, Municipal and District Assemblies.
|  |  |  | Schools rehabilitated.
|  |  |  | School blocks constructed.
|  |  |  | Distance to collect water.
|  |  |  | Households with access to improved water supply.
|  |  |  | Water points constructed.
|  |  |  | Kilometers of electricity lines identified and diligence.
|  |  |  | Inter-bank transactions.
|  |  |  | Rural banks automated under the Automation/Computerization and Interconnectivity of Rural Banks activity.
|  |  |  | Rural banks connected to the wide area network.
Transportation Project | $227,748,133 | Reduce the transportation costs affecting agriculture commerce at sub-regional levels | $224,364,904 | Agricultural processing plants in target districts with electricity due to Rural Electrification Sub-Activity.
|  |  |  | N1 Highway: Annualized average daily traffic.
|  |  |  | N1 Highway: Kilometers of road upgraded.
|  |  |  | Trunk roads kilometers of roads completed.
|  |  |  | Percent of contracted trunk road works disbursed.
|  |  |  | Ferry Activity: Annualized average daily traffic vehicles.
|  |  |  | Ferry Activity: Annual average daily traffic (passengers).
|  |  |  | Percent of contracted road works disbursed: N1 Highway, Lot 2.
|  |  |  | Percent of contracted road works disbursed: N1 Highway, Lot 2.
|  |  |  | Percent of contracted work disbursed: Ferry and floating dock.
|  |  |  | Percent of contracted work disbursed: Landings and terminals.
Program Administration ³, Due Diligence, Monitoring and Evaluation | $47,579,894 |  | $43,816,360
Pending subsequent reports ⁴
The negative disbursement relates to a return of funds to MCC upon MCA Ghana's closing.

Projects | Obligated | Objective | Cumulative disbursements | Measures ²
Country: Jordan Year: 2013 Quarter 1 Total Obligation: $275,100,000
Entity to which the assistance is provided: MCA Jordan Total Quarterly Disbursements ¹: $11,558,028
Water Network Project | $102,570,034 | Improve the overall drinking water system efficiency in Jordan's Zarqa Governorate | $1,495,920 | Network water consumption per capita (residential and non-residential); liters/capita/day.
|  |  |  | Operating cost coverage—Water Authority Jordan Zarqa.
|  |  |  | Non-revenue water.
|  |  |  | Continuity of supply time; hours per week.
|  |  |  | Restructure and rehabilitate primary and secondary pipelines (kilometers).
|  |  |  | Restructure and rehabilitate tertiary pipelines (kilometers).
|  |  |  | Value disbursed of water construction contracts—Infrastructure Activity and Water Smart Homes Activity.
|  |  |  | Number of National Aid Fund households with improved water and wastewater network.
Wastewater Network Project | $54,274,261 | Improve the overall waste water system efficiency in Jordan's Zarqa Governorate | $5,013,881 | Sewer blockage events (annual). Volume of wastewater collected; cubic meters/year/million.
|  |  |  | Residential population connected to the sewer system.
|  |  |  | Expand Network (kilometers).
|  |  |  | Value disbursed of sanitation construction contracts.
As Samra Wastewater Treatment Plant Expansion Project | $98,703,598 | Increase the volume of treated waste water available as a substitute for fresh water in agriculture use | $19,819,887 | Treated wastewater used in agriculture (as a percent of all water used for irrigation in Northern and Middle Jordan Valley).
|  |  |  | Value disbursed of construction contracts.
|  |  |  | Total engineering, procurement and construction cost of As-Samra Expansion.
Program Administration ³ and Control, Monitoring and Evaluation | $19,552,107 |  | $457,034 |
Pending subsequent reports ⁴ |  |  | $183,514 |

Projects | Obligated | Objective | Cumulative disbursements | Measures ²
Country: Lesotho Year: 2013 Quarter 1 Total Obligation: $362,551,000
Entity to which the assistance is provided: MCA Lesotho Total Quarterly Disbursements ¹: $24,105,005
Water Project | $167,886,999 | Improve the water supply for industrial and domestic needs, and enhance rural livelihoods through improved watershed management | $90,036,334 | Physical completion of Metolong water treatment works contract. Physical completion of Urban Water supply works contracts (percent).
|  |  |  | People with access to rural water supply.
|  |  |  | Ventilated improved pit latrines built.
|  |  |  | Households with provisions to connect to water networks.
|  |  |  | Non-revenue water (percent).
|  |  |  | Knowledge of good hygiene practices.
|  |  |  | Water points constructed.
Health Project | $121,377,822 | Increase access to life-extending antiretroviral therapy and essential health services by providing a sustainable delivery platform | $81,044,781 | People with HIV still alive 12 months after initiation of treatment. Health centers with required staff complement (full-time employees).
|  |  |  | Tuberculosis notification (per 100,000 people).
|  |  |  | Health centers equipped.
|  |  |  | Deliveries conducted in the health facilities.
|  |  |  | Physical completion of health center facilities (percent).
|  |  |  | Physical completion of outpatient departments (percent).
|  |  |  | Physical completion of the Botsabelo facilities (percent).
Private Sector Development Project | $27,386,469 | Stimulate investment by improving access to credit, reducing transaction costs and increasing the participation of women in the economy | $17,273,437 | Time required to resolve commercial disputes. Cases filed at the commercial court.
|  |  |  | Debit/smart cards issued.
|  |  |  | Bonds registered.
|  |  |  | Urban land parcels regularized and registered.
|  |  |  | People trained on gender equality and economic rights.
|  |  |  | Stakeholders trained.
|  |  |  | Change in time for property transactions.
|  |  |  | Women holding titles to land.
Program Administration ³ and Control, Monitoring and Evaluation | $45,899,709 |  | $31,472,146 |
Pending Subsequent Report ⁴

Projects | Obligated | Objective | Cumulative disbursements | Measures ²
Country: Mali Year: 2013 Quarter 1 Total Obligation: $460,811,163
Entity to which the assistance is provided: MCA Mali Total Quarterly Disbursements ¹: $6,882,420
Bamako-Senou Airport Improvement Project | $161,544,326 |  | $143,337,157 | Annual foreign visitors, non-residents.
|  |  |  | Percent of work completed on the airside infrastructure.
|  |  |  | Percent of work completed on the landside infrastructure.
|  |  |  | Security and safety deficiencies corrected at the airport.
Alatona Irrigation Project | $254,592,466 | Increase the agricultural production and productivity in the Alatona zone of the Office du Niger | $252,898,171 | Cultivation intensity during the dry season (percent). Value of agricultural products sold by farmers (millions of francs CFA).
|  |  |  | Percent of works completed on Niono-Goma Coura road.
|  |  |  | Hectares under new irrigation.
|  |  |  | Percent of contracted irrigation construction works disbursed.
|  |  |  | Market gardens allocated in Alatona zones to populations affected by the project or New Settler women.
|  |  |  | Five-hectare farms distributed to new settlers.
|  |  |  | Rural hectares formalized.
|  |  |  | Net primary school enrollment rate (in Alatona zone).
|  |  |  | Functional producer organization.
|  |  |  | Hectares under production (rainy season).
|  |  |  | Hectares under production (dry season).
|  |  |  | Organisation d'exploitation des reseaux secondaires or water user associations established.
|  |  |  | Active microfinance institution clients.
Industrial Park Project | $2,637,472 | Terminated | $2,637,472 |
Program Administration ³ and Control, Monitoring and Evaluation | $42,036,899 |  | $36,456,232 |
Pending Subsequent Report ⁴ |  |  | $299,190 |
On May 4, 2012, the MCC Board of Directors concurred with the recommendation of MCC to terminate the Mali Compact following the undemocratic change of government in the country.

Projects | Obligated | Objective | Cumulative disbursements | Measures ²
Country: Moldova Year: 2013 Quarter 1 Total Obligation: $262,000,000
Entity to which the assistance is provided: MCA Moldova Total Quarterly Disbursements ¹: $8,126,632
Road Rehabilitation Project | $132,950,000 | Enhance transportation conditions | $12,597,458 | Reduced cost for road users.
|  |  |  | Average annual daily traffic.
|  |  |  | Road maintenance expenditure.
|  |  |  | Kilometers of roads completed.
|  |  |  | Percent of contracted roads works disbursed.
|  |  |  | Children participants in the road safety trainings.
|  |  |  | Resettlement action plans implemented.
|  |  |  | Final design.
|  |  |  | Trafficking in persons training participants.
Transition to High Value Agriculture Project | $101,773,402 | Increase incomes in the agricultural sector; create models for transition to high value agriculture in centralized irrigation system areas and an enabling environment (legal, financial and market) for replication | $13,261,921 | Hectares under improved or new irrigation. Centralized irrigation systems rehabilitated. Percent of contracted irrigation feasibility and/or design studies disbursed.
|  |  |  | Value of irrigation feasibility and/or detailed design contracts signed.
|  |  |  | Water user associations achieving financial sustainability.
|  |  |  | Management transfer agreements signed.
|  |  |  | Revised water management policy framework—with long-term water rights defined—established.
|  |  |  | Contracts of association signed.
|  |  |  | Operational cold-storage capacity of high value agriculture post-harvest structures (metric tons).
|  |  |  | Loans past due.
|  |  |  | Value of agricultural and rural loans.
|  |  |  | Loan borrowers.
|  |  |  | Loan borrowers (female).
|  |  |  | Value of sales facilitated.
|  |  |  | HVA Post-Harvest Credit Facility policies and procedures manual finalized.
|  |  |  | Farmers that have applied improved techniques (Growing High Value Agriculture Sales [GHS]).
|  |  |  | Farmers that have applied improved techniques (GHS) (female).
|  |  |  | Farmers trained.
|  |  |  | Farmers trained (female).
|  |  |  | Enterprises assisted.
|  |  |  | Enterprises assisted (female).
Program Administration ³ and Monitoring and Evaluation | $27,276,598 |  | $5,681,449 |
Pending Subsequent Report ⁴ |  |  | $1,308,615 |

Projects | Obligated | Objective | Cumulative disbursements | Measures ²
Country: Mongolia Year: 2013 Quarter 1 Total Obligation: $284,911,363
Entity to which the assistance is provided: MCA Mongolia Total Quarterly Disbursements ¹: $30,504,165
Property Rights Project | $27,802,619 | Increase security and capitalization of land assets held by lower-income Mongolians, and increased peri-urban herder productivity and incomes | $20,771,622 | Wells completed. Legal and regulatory reforms adopted. Stakeholders trained (Peri-Urban and Land Plots).
|  |  |  | Herder groups limiting their livestock population to the carrying capacity of their leases on semi-intensive farms.
|  |  |  | Cost for property transactions (first time).
|  |  |  | Urban parcels formalized.
|  |  |  | Stakeholders trained (Ger Area Land Plots).
|  |  |  | Leaseholds Awarded.
Vocational Education Project | $47,255,638 | Increase employment and income among unemployed and underemployed Mongolians | $40,412,539 | Students participating in MCC-supported educational facilities.
|  |  |  | Nongovernmental funding of vocational education (percent).
|  |  |  | Instructors trained or certified through MCC-supported activities.
|  |  |  | Educational facilities constructed/rehabilitated or equipped through MCC-supported activities.
Health Project | $38,973,259 | Increase the adoption of behaviors that reduce noncommunicable diseases and injuries (NCDIs) among target populations and improved medical treatment and control of NCDIs | $28,403,496 | Funding for grants awarded for noncommunicable disease and injuries (NCDI) activities (U.S. dollars). Health staff that have received training in NCDI.
|  |  |  | Health education teachers participating in trainings on NCDI prevention.
|  |  |  | Screening for hypertension (percent).
|  |  |  | PHC facilities offering high quality NCDI services (percent).
|  |  |  | Early detections of cervical cancer—early diagnosis.
Roads Project | $88,440,123 | More efficient transport for trade and access to services | $39,826,228 | Kilometers of roads completed.
|  |  |  | Kilometers of roads under design.
|  |  |  | Percent of contracted roads works disbursed.
Energy and Environmental Project | $45,266,205 | Increased wealth and productivity through greater fuel use efficiency and decreasing health costs from air | $37,626,540 | Households purchasing subsidized products.
|  |  |  | Stoves distributed by MCA Mongolia.
|  |  |  | Wind power dispatched from substation (million kilowatt hours).
|  |  |  | Heat Only Boilers (HOBs) sites upgraded.
Rail Project | $369,560 | Terminated | $369,560 | Terminated.
Program Administration ³ and Control, Monitoring and Evaluation | $36,803,960 |  | $24,754,264 |
Pending subsequent reports ⁴ |  |  | $1,580,793 |
In late 2009, the MCC Board of Directors approved the allocation of a portion of the funds originally designated for the rail project to the expansion of the health, vocational education and property right projects, and the remaining portion to the addition of a road project.

Projects | Obligated | Objective | Cumulative disbursements | Measures ²
Country: Morocco Year: 2013 Quarter 1 Total Obligation: $697,500,000
Entity to which the assistance is provided: MCA Morocco Total Quarterly Disbursements ¹: $30,811,780
Fruit Tree Productivity Project | $335,611,395 | Reduce volatility of agricultural production and increase volume of fruit agricultural production | $206,014,560 | Farmers trained. Olive and date producers assisted.
|  |  |  | Percent of virgin and extra virgin olive oil of total olive oil production in targeted areas.
|  |  |  | Number of Catalyst Fund proposals approved.
|  |  |  | Disbursements under the Catalyst Fund.
|  |  |  | Average agricultural revenue per farm in rehabilitation rain-fed areas (U.S. dollars).
|  |  |  | Area planted and delivered to farmers (hectares).
|  |  |  | Area in expansion perimeters for which water and soil conservation measures have been implemented (hectares).
|  |  |  | Yield of rehabilitated olive trees in rain-fed areas (metric tons per hectare) (“mt/ha”).
|  |  |  | Average agricultural revenue per farm in irrigated areas.
|  |  |  | Cumulative area of irrigated perimeters rehabilitated (hectares).
|  |  |  | Yield of rehabilitated olive trees in irrigated areas (mt/ha).
|  |  |  | Average Agricultural revenue per farm in oasis areas.
|  |  |  | Hectares under improved irrigation.
|  |  |  | Yield of rehabilitated date palms in oasis areas (mt/ha).
|  |  |  | Number of in-vitro seedlings successfully planted.
Small Scale Fisheries Project | $124,916,716 | Improve quality of fish moving through domestic channels and assure the sustainable use of fishing resources | $44,956,600 | Boats benefitting from landing sites and ports. Number of artisan fishers who received a training certificate.
|  |  |  | Number of jobs created in wholesale fish markets.
|  |  |  | Per capita fish consumption in areas of new market construction (kg/year).
|  |  |  | Active mobile fish vendors trained and equipped by the project.
|  |  |  | Average price of fish at auction markets.
|  |  |  | Net annual income of mobile fish vendors.
Artisan and Fez Medina Project | $95,511,144 | Increase value added to tourism and artisan sectors | $42,154,918 | Total receiving literacy training.
|  |  |  | Graduates of MCC-supported functional literacy program (female).
|  |  |  | Graduates of MCC-supported functional literacy program (male).
|  |  |  | Total receiving professional training.
|  |  |  | Females receiving professional training.
|  |  |  | Graduates vocational training program (residential, apprenticeship and continuing education).
|  |  |  | Drop-out rates of participants of residential and apprenticeship programs.
|  |  |  | Potters trained.
|  |  |  | MCC-subsidized gas kilns bought by artisans.
|  |  |  | Adoption rate of improved production practices promoted by the project (percent).
|  |  |  | Tourist circuits improved or created.
|  |  |  | Number of small and medium enterprises (SMEs) participating in promotion events.
|  |  |  | Number of SMEs participating in promotion events.
|  |  |  | Sites constructed or rehabilitated (4 Fondouks, Place Lalla Ydouna, Ain Nokbi).
|  |  |  | Beneficiaries of Ain Nokbi construction and artisan resettlement program.
Enterprise Support Project | $18,016,820 | Improved survival rate of new small and medium enterprises (SMEs) and National Initiative for Human Development (INDH)-funded income generating activities; increased revenue for new SMEs and INDH-funded income generating activities | $14,490,303 | Survival rate after two years. Days of individual coaching. Beneficiaries trained.
Financial Services Project | $42,633,565 | To be determined | $28,832,087 | Portfolio at risk at 30 days.
|  |  |  | Value of loans granted through mobile branches (U.S. dollars).
|  |  |  | Clients of microcredit associations reached through mobile branches.
|  |  |  | Value of loan agreements between Micro credit associations and Jaida (millions of dirhams).
|  |  |  | Value of loan disbursements to Jaida.
Program Administration ³ and Control, Monitoring and Evaluation | $80,810,360 |  | $54,411,301 |
Pending Subsequent Report ⁴

Projects | Obligated | Objective | Cumulative disbursements | Measures ²
Country: Mozambique Year: 2013 Quarter 1 Total Obligation: $506,924,053
Entity to which the assistance is provided: MCA Mozambique Total Quarterly Disbursements ¹: $43,228,840
Water Supply and Sanitation Project | $207,385,393 | Increase access to reliable and quality water and sanitation facilities | $99,101,795 | Value of municipal sanitation and drainage systems construction contracts signed.
|  |  |  | Amount disbursed for municipal sanitation and drainage construction contracts.
|  |  |  | Volume of water produced.
|  |  |  | Value of contracts signed for construction of water systems.
|  |  |  | Percent of construction contract disbursed for water systems.
|  |  |  | Rural water points constructed.
|  |  |  | Percent of rural population with access to improved water sources.
|  |  |  | Amount disbursed for rural water points construction contracts.
|  |  |  | Persons trained in hygiene and sanitary best practices.
Road Rehabilitation Project | $176,307,480 | Increase access to productive resources and markets | $67,258,388 | Percent of roads works contracts disbursed.
|  |  |  | Kilometers of roads issued “Take-over Certificates”.
Land Tenure Project | $40,068,307 | Establish efficient, secure land access for households and investors | $25,699,612 | People trained (paralegal courses at Centre for Juridical and Judicial Training, general training at National Directorate of Land and Forest, etc.).
|  |  |  | Land administration offices established or upgraded.
|  |  |  | Rural hectares mapped.
|  |  |  | Urban parcels mapped.
|  |  |  | Rural hectares formalized.
|  |  |  | Urban parcels formalized.
|  |  |  | Communities delimited.
Farmer Income Support Project | $19,250,117 | Improve coconut productivity and diversification into cash crop | $14,173,664 | Coconut seedlings planted. Survival rate of coconut seedlings (percent).
|  |  |  | Hectares of alternate crops under production.
|  |  |  | Farmers trained in surveillance and pest and disease control for coconuts.
|  |  |  | Farmers trained in alternative crop production and productivity enhancing strategies.
|  |  |  | Farmers trained in planting and post-planting management of coconuts.
|  |  |  | Farmers using alternative crop production and productivity enhancing strategies.
|  |  |  | Businesses receiving Business Development Fund grants.
Program Administration ³ and Control, Monitoring and Evaluation | $63,912,756 |  | $37,266,903 |
Pending Subsequent Report ⁴ |  |  | $1,714,499 |

Projects | Obligated | Objective | Cumulative disbursements | Measures ²
Country: Namibia Year: 2013 Quarter 1 Total Obligation: $304,477,814
Entity to which the assistance is provided: MCA Namibia Total Quarterly Disbursements ¹: $18,870,749
Education Project | $141,602,809 | Improve the quality of the workforce in Namibia by enhancing the equity and effectiveness of basic | $59,623,641 | Learners (any level) participating in the 47 schools sub-activity.
|  |  |  | Educational facilities constructed, rehabilitated, equipped in the 47 schools sub-activity.
|  |  |  | Percent of contracted construction works disbursed for 47 schools.
|  |  |  | Textbooks delivered.
|  |  |  | Educators trained to be textbook management trainers.
|  |  |  | Educators trained to be textbook utilization trainers.
|  |  |  | Percent disbursed against works contracts for Regional Study Resource Centers Activity.
|  |  |  | Visits to MCA Namibia assisted Regional Study and Resource Centres.
|  |  |  | Compliance rate for National Training Fund (NTF) levy.
|  |  |  | Vocational Training Grant Fund‐supported individuals who have completed training.
|  |  |  | Percent disbursed against construction, rehabilitation, and equipment contracts for Community Skills and Development Centres.
|  |  |  | Namibia Student Financial Assistance Fund Policy in place.
Tourism Project | $67,631,170 | Grow the Namibian tourism industry with a focus on increasing income to households in communal | $17,647,770 | Tourists to Etosha National Park (ENP). Galton Gate Plan implemented.
|  |  |  | Percent disbursed against construction, rehabilitation and equipment contracts for ENP housing units/management structures.
|  |  |  | Game translocated with MCA Namibia support.
|  |  |  | Unique visits on Namibia Tourism Board website.
|  |  |  | Leisure tourist arrivals.
|  |  |  | North American tourism businesses (travel agencies and tour operators) that offer Namibian tours or tour packages.
|  |  |  | Value of grants issued by the conservancy grant fund (Namibian dollars).
|  |  |  | Amount of private sector investment secured by MCA Namibia assisted conservancies (Namibian dollars).
|  |  |  | Annual gross revenue to conservancies receiving MCA Namibia assistance.
Agriculture Project | $51,286,343 | Enhance the health and marketing efficiency of livestock in the NCAs of Namibia and to increase income | $21,395,500 | Participating households registered in the Community-Based Rangeland and Livestock Management sub-activity.
|  |  |  | Grazing areas with documented combined management plans.
|  |  |  | Parcels corrected or incorporated in land system.
|  |  |  | Stakeholders trained.
|  |  |  | Cattle tagged with radio frequency identification tags.
|  |  |  | Percent disbursed against works contracts for State Veterinary Offices.
|  |  |  | Value of grant agreements signed under Livestock Market Efficiency Fund.
|  |  |  | Indigenous natural product producers mobilized and trained.
|  |  |  | Value of grant agreements signed under Indigenous Natural Product Innovation Fund.
Program Administration ³ and Control, Monitoring and Evaluation | $43,957,491 |  | $22,731,665 |
Pending Subsequent Report ⁴ |  |  | $2,327,604 |

Projects | Obligated | Objective | Cumulative disbursements | Measures ²
Country: Philippines Year: 2013 Quarter 1 Total Obligation: $432,829,526
Entity to which the assistance is provided: MCA Philippines Total Quarterly Disbursements ¹: $8,846,373
Kalahi-CIDSS Project | $120,000,000 | Improve the responsiveness of local governments to community needs, encourage communities to engage in development activities | $20,625,305 | Percent of Municipal Local Government Units that provide funding support for Kalahi-CIDSS (KC) subproject operations and maintenance.
|  |  |  | Completed KC subprojects implemented in compliance with technical plans and within schedule and budget.
|  |  |  | Barangays that have completed specific training on subproject management and implementation.
Secondary National Roads Development Project | $213,412,526 | Reduce transportation costs and improve access to markets and social services | $18,445,092 | Kilometers of road sections completed.
|  |  |  | Bridges replaced.
|  |  |  | Bridges rehabilitated.
|  |  |  | Value of road construction contracts signed.
|  |  |  | Value of road construction contracts disbursed.
Revenue Administration Reform Project | $54,300,000 | Increase tax revenues over time and support the Department of Finance's initiatives to detect and deter corruption within its revenue agencies | $4,257,252 | Number of Audits. Revenue District Offices using the electronic tax information system.
|  |  |  | Percent of audit completed in compliance with prescribed period of 120 days.
|  |  |  | Percent of audit cases performed using automated audit tool.
|  |  |  | Successful case resolutions.
|  |  |  | Personnel charged with graft, corruption, lifestyle and/or criminal cases.
|  |  |  | Time taken to complete investigation (average).
Program Administration ³ and Control, Monitoring and Evaluation | $45,117,000 |  | $5,963,556 |
Pending Subsequent Reports ⁴ |  |  | $4,550,234 |

Projects | Obligated | Objective | Cumulative disbursements | Measures ²
Country: Senegal Year: 2013 Quarter 1 Total Obligation: $540,000,000
Entity to which the assistance is provided: MCA Senegal Total Quarterly Disbursements ¹: $3,222,061
Road Rehabilitation Project | $324,712,499 | Expand access to markets and services | $3,114,674 | Value of contracts signed for the feasibility, design, supervision and program management of the RN2 and RN6 National Roads.
|  |  |  | Percent of disbursements for the contract signed for the constructions of the RN 2 and RN6.
|  |  |  | Kilometers of roads rehabilitated on the RN2 National Road.
|  |  |  | Annual average daily traffic Richard-Toll-Ndioum.
|  |  |  | Percent change in travel time on the RN2.
|  |  |  | International roughness index on the RN2 (lower number = smoother road).
|  |  |  | Kilometers of roads covered by the contract for the studies, the supervision and management of the RN2 National Road.
|  |  |  | Kilometers of roads rehabilitated on the RN6 National Road.
|  |  |  | Annual average daily traffic Ziguinchor-Tanaff.
|  |  |  | Annual average daily traffic Tanaff-Kolda.
|  |  |  | Annual average daily traffic Kolda-Kounkané.
|  |  |  | Percent change in travel time on the RN6 National Road.
|  |  |  | International roughness index on the RN6 National Road (lower number = smoother road).
|  |  |  | Kilometers of roads covered by the contract for the studies, the supervision and management of the RN6 National Road.
Irrigation and Water Resources Management Project | $170,008,860 | Improve productivity of the agricultural sector | $1,377,991 | Tons of irrigated rice production.
|  |  |  | Potentially irrigable lands area (Delta and Ngallenka).
|  |  |  | Hectares under production.
|  |  |  | Percent of the disbursements on the contracts signed for the studies in the Delta and the Ngallenka.
|  |  |  | Value of the construction contracts signed for the irrigation infrastructure in the Delta and the Ngallenka.
|  |  |  | Cropping intensity (hectares under production per year/cultivable hectares) (Delta and Ngallenka).
|  |  |  | Hectares mapped.
|  |  |  | Percent of new conflicts resolved.
|  |  |  | People trained on land security tools.
|  |  |  | Women trained on land security tools.
|  |  |  | Activity still under development. Feasibility studies are set to conclude by end of quarter 2. First draft of the business Plan expected by end of quarter 1 of fiscal year 2013.
Program Administration ³ and Monitoring and Evaluation | $45,278,641 |  | $10,494,793 |
Pending Subsequent Report ⁴ |  |  | $1,032,386 |

Projects | Obligated | Objective | Cumulative disbursements | Measures ²
Country: Tanzania Year: 2013 Quarter 1 Total Obligation: $697,780,137
Entity to which the assistance is provided: MCA Tanzania Total Quarterly Disbursements ¹: $60,259,135
Energy Sector Project | $207,456,542 | Increase value added to businesses | $138,636,188 | Number of Current power customers.
|  |  |  | Transmission and distribution substations capacity (megawatt-peak).
|  |  |  | Technical and non-technical losses (Zanzibar) (percent).
|  |  |  | Percent disbursed on overhead lines contract.
|  |  |  | Number of Current power customers.
|  |  |  | Capacity of systems installed (kilowatt-peak).
|  |  |  | Current power customers (all six project regions).
|  |  |  | Kilometers of 132 kilovolt (KV) lines constructed.
|  |  |  | Kilometers of 33/11KV lines constructed.
|  |  |  | Transmission and distribution substations capacity (Megavolt Ampere) (all six project regions).
|  |  |  | Technical and nontechnical losses (Mainland) (percent).
|  |  |  | Cost recovery ratio.
Transport Sector Project | $374,667,790 | Increase cash crop revenue and aggregate visitor spending | $202,861,275 | Percent disbursed on construction contracts.
|  |  |  | Surfacing complete: Tunduma-Sumbawanga (percent).
|  |  |  | Surfacing complete: Tanga-Horohoro (percent).
|  |  |  | Surfacing complete: Namtumba-Songea (percent).
|  |  |  | Surfacing complete: Permiho-Mbinga (percent).
|  |  |  | Kilometers of roads completed (taken over).
|  |  |  | Pemba: Percent disbursed on construction contract.
|  |  |  | Surfacing complete: Pemba (percent).
|  |  |  | Kilometers of roads completed (taken over): Zanzibar.
|  |  |  | Road maintenance expenditures: Mainland trunk roads (percent).
|  |  |  | Road maintenance expenditures: Zanzibar rural roads (percent).
|  |  |  | Runway surfacing complete (percent).
Water Sector Project | $65,671,108 | Increase investment in human and physical capital and to reduce the prevalence of water-related disease | $36,588,231 | Volume of water produced—Lower Ruvu (millions of liters per day). Operations and maintenance cost recovery-Lower Ruvu.
|  |  |  | Volume of water produced—Morogoro (millions of liters per day).
|  |  |  | Operations and maintenance cost recovery—Morogoro.
Program Administration ³ and Control, Monitoring and Evaluation | $49,975,696 |  | $27,101,519 |
Pending Subsequent Report ⁴
¹ Disbursements are cash outlays rather than expenditures.
² These measures are the same Key Performance Indicators that MCC reports each quarter. The Key Performance Indicators may change over time to more accurately reflect compact implementation progress. The unit for these measures is “number of” unless otherwise specified.
³ Program administration funds are used to pay items such as salaries, rent, and the cost of office equipment.
⁴ These amounts represent disbursements made that will be allocated to individual projects in the subsequent quarter(s) and reported as such in subsequent quarterly report(s).
The following MCC compacts are closed and, therefore, do not have any quarterly disbursements: Armenia, Benin, Cape Verde I, Georgia, Honduras, Madagascar, Nicaragua and Vanuatu.

619(b) Transfer or Allocation of Funds—United States agency to which funds were transferred or allocated | Amount | Description of program or project
None | None | None.

[FR Doc. 2013-08559 Filed 4-12-13; 8:45 am]

BILLING CODE 9211-03-P